COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before October 17, 2016.

ADDRESSES: Comments regarding the burden estimated or any other aspect of the information collection, including suggestions for reducing the burden, may be submitted directly to the Office of Information and Regulatory Affairs (OIRA) in OMB, within 30 days of the notice's publication, by email at OIRAsubmissions@omb.eop.gov. Please identify the comments by OMB Control No. 3038-0005. Please provide the Commission with a copy of all submitted comments at the address listed below. Please refer to OMB Reference No. 3038-0005 found on http://reginfo.gov. Comments may also be mailed to the Office of Information and Regulatory Affairs, Office of Management and Budget, Attention: Desk Officer for the Commodity Futures Trading Commission, 725 17th Street NW., Washington, DC 20503, and through the Agency's Web site at http://comments.cftc.gov. Follow the instructions for submitting comments through the Web site.

Comments may also be mailed to: Christopher Kirkpatrick, Secretary of the Commission, Commodity Futures Trading Commission, Three Lafayette Centre, 1155 21st Street NW., Washington, DC 20581 or by Hand Delivery/Courier at the same address.

A copy of the supporting statements for the collection of information discussed above may be obtained by visiting http://www.RegInfo.gov. All comments must be submitted in English, or if not, accompanied by an English translation. Comments will be posted as received to http://www.cftc.gov.

FOR FURTHER INFORMATION CONTACT: Amanda Olear, Associate Director, Division of Swap Dealer and Intermediary Oversight, Commodity Futures Trading Commission, (202) 418-5283; email: aolear@cftc.gov, and refer to OMB Control No. 3038-0005.

SUPPLEMENTARY INFORMATION: Title: “Rules Relating to the Operations and Activities of Commodity Pool Operators and Commodity Trading Advisors and to Monthly Reporting by Futures Commission Merchants (OMB Control No. 3038-0005). This is a request for extension of a currently approved information collection.

Abstract: Pursuant to the Commodity Exchange Act, as amended by the Dodd-Frank Wall Street Reform and Consumer Protection Act (“Dodd-Frank Act”), Public Law 111-203, 124 Stat. 1376 (2010), the Commission promulgated rules and forms relating to registration and compliance with the Commission regulations applicable to intermediaries, and employees and principals thereof, operating in the futures, options, swaps, and retail forex markets. As part of the Commission's rulemaking effort, the Commission amended the compliance regime for Commodity Pool Operators, which is part of a previously approved information collection, through the adoption of a compliance regime applicable to Commodity Pool Operators of Registered Investment Companies, 78 FR 52308 (Aug. 22, 2013).

The disclosure, filing, and recordkeeping requirements within part 4 of the Commission's regulations were established to assist customers, to facilitate the Commission and the National Futures Association (“NFA”) in monitoring compliance with the part 4 rules, and to enable the Commission to better monitor the market risks posed by the Commission's registrants. The information collections are necessary to enable the Commission and NFA to accomplish the purposes of the compliance regime set forth in part 4 enumerated above.

The Commission did not receive any comments on the 60-day Federal Register notice, 81 FR 42668, dated June, 30, 2016.

Burden Statement: The Commission is revising its estimate of the burden for this collection for Commodity Pool Operators and Commodity Trading Advisors to account for mathematical errors in the previous estimates for this information collection. The respondent burden for this collection is estimated to be as follows:

Estimated Number of Respondents: 45,270.

Estimated Average Burden Hours per Respondent: 8.08.¹

¹ This has been rounded up slightly from 8.07886.

Estimated Total Annual Burden Hours: 365,730.

Frequency of Collection: Periodically.

There are no capital costs or operating and maintenance costs associated with this collection related to the generation of the required information and the submission of the same to the Commission.

(Authority: 44 U.S.C. 3501 et seq.)

Dated: September 12, 2016.
Robert N. Sidman,
Deputy Secretary of the Commission.

[FR Doc. 2016-22199 Filed 9-14-16; 8:45 am]

BILLING CODE 6351-01-P